SECURITIES AND EXCHANGE COMMISSION

[Release No. 35-27336; 70-9633]

Filings Under the Public Utility Holding Company Act of 1935, as Amended (“Act”)

January 11, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by February 2, 2001, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After February 2, 2001, the application(s) and/or declaration(s), as filed or as amended, may be granted and/or permitted to become effective.

Unitil Corporation, et al. (70-9633)

Unitil Corporation (“Unitil”), a registered holding company, and its subsidiary companies, Concord Electric Company, Exeter & Hampton Electric Company, Fitchburg Gas and Electric Light Company (“Fitchburg”), Unitil Power Corp., Unitil Realty Corp., Unitil Resources, Inc. and Unitil Services Corp. (collectively, “Subsidiaries” and, together with Unitil, “Applicants”), all located at 6 Liberty Lane West, Hampton, New Hampshire 03842-1720, have filed a post-effective amendment under sections 6(a), 7, 9(a), 10 and 12(b) of the Act and rules 43 and 45 under the Act, to a previously filed application-declaration.

By orders dated June 30, 1997, June 9, 2000, and December 15, 2000 (HCAR Nos. 26737, 27182, and 27307, respectively) (“Prior Orders”), the Commission authorized through June 30, 2003 (“Authorization Period”): (1) The Applicants to make unsecured short-term borrowings and to operate a system money pool (“Money Pool”); (2) Unitil to incur short-term borrowings from banks in an aggregate amount not to exceed $35 million (“Unitil Borrowing Authority”); and (3) Fitchburg to incur short-term borrowings from third parties and the other Applicants through the Money Pool in an aggregate amount not to exceed $20 million (“Fitchburg Borrowing Authority”).

Applicants seek approval through the Authorization Period to increase: (1) the Unitil Borrowing Authority to $45 million and (2) the Fitchburg Borrowing Authority to $30 million. Applicants state that the requested increases in Unitil Borrowing Authority and Fitchburg Borrowing Authority will remain subject to the parameters as set forth in the Prior Orders.

Applicants state that the prices Unitil's subsidiaries, Unitil Power and Fitchburg, pay for wholesale electric and natural gas energy commodities have become unpredictably volatile. According to Applicants, the prices have risen sharply, putting a heavy strain on Unitil's working capital and significantly increasing its short-term borrowing requirements. Applicants state that the requested authorization is necessary to satisfy the cost of their wholesale energy obligations.

For the Commission by the Division of Investment Management, pursuant to delegated authority.
Jonathan G. Katz,
Secretary.

[FR Doc. 01-1404 Filed 1-17-01; 8:45 am]

BILLING CODE 8010-01-M